FEDERAL ELECTION COMMISSION

11 CFR Part 110

[Notice 2002-30]

Contribution Limitations and Prohibitions: Delay of Effective Date and Correction

AGENCY: Federal Election Commission.

ACTION: Final rule; delay of effective date and correction.

SUMMARY: The Federal Election Commission is publishing a correction to the final rules governing contributions limitations and prohibitions that were published in the Federal Register on November 19, 2002 (67 FR 69928). The correction: (1) Changes the effective date for revised 11 CFR 110.9 from January 1 to January 13, 2003; and (2) deletes the word “authorized” in referencing political committees in regulations pertaining to reattribution of contributions.

DATES: As of December 27, 2002, the effective date of 11 CFR 110.9 that was revised on November 19, 2002 (67 FR 69928) is delayed until January 13, 2002. The effective date of the correction to 11 CFR 110.1(k)(3)(ii) is January 1, 2003.

FOR FURTHER INFORMATION CONTACT: Ms. Mai T. Dinh, Acting Assistant General Counsel, 999 E Street, NW., Washington, DC 20463, (202) 694-1650 or (800) 424-9530.

SUPPLEMENTARY INFORMATION: The Federal Election Commission published in the Federal Register on November 19, 2002, final rules implementing amendments made by the Bipartisan Campaign Reform Act of 2002 (“BCRA”) to the contribution limitations and prohibitions of the Federal Election Campaign Act of 1971, as amended (“FECA”) (67 FR 69928). These final rules were published with a January 1, 2003 effective date. Among other things, the final rules revised 11 CFR 110.9 so that it now addresses only violations of the contributions and expenditure limitations rather than four miscellaneous topics, including fraudulent misrepresentation. The general fraudulent misrepresentation provision formerly found at 11 CFR 110.9(b) was moved to new 11 CFR 110.16(a) in another BCRA rulemaking entitled “Disclaimers, Fraudulent Solicitation, Civil Penalties, and Personal Use of Campaign Funds.” The Commission had anticipated that the effective dates for the “Contribution Limitations and Prohibitions” and “Disclaimers, Fraudulent Solicitation, Civil Penalties, and Personal Use of Campaign Funds” rulemaking projects would be January 1, 2003. However, due to scheduling changes, the effective date for “Disclaimers, Fraudulent Solicitation, Civil Penalties, and Personal Use of Campaign Funds” is now January 13, 2002. Consequently, this correction delays the effective date for the final rules at 11 CFR 110.9 to January 13, 2003. The effective date remains January 1, 2003 for all other final rules governing contribution limitations and prohibitions that were published in the Federal Register on November 19, 2002.

The final rules published on November 19, 2002 also addressed the procedure governing the reattribution of excessive contributions from one contributor to another in 11 CFR 110.1(k). The final rules at 11 CFR 110.1(k)(3)(ii)(A)(1) and 110.1(k)(3)(ii)(B)(2), which describe steps a recipient political committee must take when reattributing excessive contributions from one contributor to another, inadvertently included the word “authorized” before the phrase “political committee.” As made clear in the Explanation and Justification accompanying the final rules, the reattribution procedure is available to all political committees, not just authorized committees. See 67 FR 69932. Thus, this correction deletes the word “authorized” in 11 CFR 110.1(k)(3)(ii)(A)(1) and 110.1(k)(3)(ii)(B)(2).

Correction of Publication

Accordingly, the publication of final regulations on November 19, 2002 (67 FR 69928), which were the subject of FR Doc. 2002-00022, is corrected as follows:

On page 69948, in the first and second columns, respectively, remove “authorized” from 11 CFR 110.1(k)(3)(ii)(A)(1) and 110.1(k)(3)(ii)(B)(2).

Dated: December 23, 2002.
Ellen L. Weintraub,
Vice Chair, Federal Election Commission.

[FR Doc. 02-32711 Filed 12-26-02; 8:45 am]

BILLING CODE 6715-01-P